DEPARTMENT OF HOMELAND SECURITY

Coast Guard

33 CFR Part 165

[Docket No. CGD09-07-110]

Safety Zone; Chicago Harbor, Navy Pier Southeast, Chicago, IL

AGENCY: Coast Guard, DHS.

ACTION: Notice of enforcement.

SUMMARY: The Coast Guard will enforce the Navy Pier Southeast Safety Zone in Chicago Harbor during August 2007 through January 2008. This action is necessary to protect vessels and people from the hazards associated with fireworks displays. This safety zone will restrict vessel traffic from a portion of the Captain of the Port Lake Michigan Zone.

DATES: Effective from 9:30 p.m. on August 8, 2007 to 8:30 p.m. on January 1, 2008.

FOR FURTHER INFORMATION CONTACT: CWO Brad Hinken, Prevention Department, Coast Guard Sector Lake Michigan, Milwaukee, WI at (414) 747-7154.

SUPPLEMENTARY INFORMATION: The Coast Guard will enforce the special local regulation for the Safety Zone; Chicago Harbor, Navy Pier Southeast, Chicago, IL, 33 CFR 165.931 for the following events:

(1) Navy Pier Sunday Fireworks; on September 2, 2007 from 9:30 p.m. through 11 p.m.

(2) Navy Pier Monday Fireworks; on December 31, 2007 from 7 p.m. through 8:30 p.m.; January 1, 2008 from 12 a.m. through 1 a.m.

(3) Navy Pier Tuesday Fireworks; on January 1, 2008 from 7 p.m. through 8:30 p.m.

(4) Navy Pier Wednesday Fireworks; on August 8, 2007 from 9:30 p.m. through 11 p.m.; on August 15, 2007 from 9:30 p.m. through 11 p.m.; on August 22, 2007 from 9:30 p.m. through 11 p.m.; on August 29, 2007 from 9:30 p.m. through 11 p.m.

(5) Navy Pier Friday Fireworks; on October 5, 2007 from 9:30 p.m. through 11 p.m.; on October 12, 2007 from 9:30 p.m. through 11 p.m.; on October 19, 2007 from 9:30 p.m. through 11 p.m.; on October 26, 2007 from 9:30 p.m. through 11 p.m.

(6) Navy Pier Saturday Fireworks; on August 11, 2007 from 10 p.m. through 11:30 p.m.; on August 18, 2007 from 10 p.m. through 11:30 p.m.; on August 25, 2007 from 10 p.m. through 11:30 p.m.; on September 1, 2007 from 10 p.m. through 11:30 p.m.; on November 24, 2007 5 p.m. through 7 p.m.

All vessels must obtain permission from the Captain of the Port or his on-scene representative to enter, move within or exit the safety zone. Vessels and persons granted permission to enter the safety zone shall obey all lawful orders or directions of the Captain of the Port or a designated representative. While within a safety zone, all vessels shall operate at the minimum speed necessary to maintain a safe course.

This notice is issued under authority of 33 CFR 165.931 Safety Zone, Chicago Harbor, Navy Pier Southeast, Chicago IL. (published on June 13, 2007 at 72 FR 32520) and 5 U.S.C. 552 (a). In addition to this notice in the Federal Register, the Coast Guard will provide the maritime community with advance notification of these enforcement periods via broadcast Notice to Mariners and Local Notice to Mariners. The Captain of the Port will issue a Broadcast Notice to Mariners notifying the public when enforcement of the safety zone established by this section is suspended. The Captain of the Port may be contacted via U.S. Coast Guard Sector Lake Michigan on channel 16, VHF-FM.

Dated: August 6, 2007.
Bruce C. Jones,
Captain, U.S. Coast Guard, Captain of the Port Lake Michigan.

[FR Doc. E7-16016 Filed 8-14-07; 8:45 am]

BILLING CODE 4910-15-P